ENVIRONMENTAL PROTECTION AGENCY

[ER-FRL-9038-3]

Environmental Impact Statements; Notice of Availability

Responsible Agency: Office of Federal Activities, General Information (202) 564-7156 or http://www2.epa.gov/nepa.

Weekly receipt of Environmental Impact Statements

Filed 03/12/2018 Through 03/16/2018

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180043, Final, USACE, NC, Holden Beach East End Shore Protection Project, Review Period Ends: 04/23/2018, Contact: Mickey Sugg 910-251-4811

EIS No. 20180044, Final, USFS, WY, North Savery Project, Review Period Ends: 04/23/2018, Contact: Paula Guenther 307-745-2310 or 307-326-5258

EIS No. 20180045, Draft, NMFS, OR, Draft Environmental Impact Statement to Analyze Impacts of NOAA's National Marine Fisheries Service Proposed Approval of Hatchery and Genetic Management Plans for Spring Chinook Salmon, Steelhead, and Rainbow Trout in the Upper Willamette River Basin Pursuant to Section 4(d) of the Endangered Species Act, Comment Period Ends: 05/07/2018, Contact: Lance Kruzic 541-957-3381

EIS No. 20180046, Draft, BLM, WY, Draft Environmental Impact Statement: Riley Ridge to Natrona Project, Comment Period Ends: 05/07/2018, Contact: Mark Mackiewicz 435-636-3613

EIS No. 20180047, Draft Supplement, BLM, AK, Alpine Satellite Development Plan for the Proposed Greater Mooses Tooth 2 Development Project, Comment Period Ends: 05/07/2018, Contact: Stephanie Rice 907-271-3202

Dated: March 19, 2018.
Kelly Knight,
Director, NEPA Compliance Division, Office of Federal Activities.

[FR Doc. 2018-05893 Filed 3-22-18; 8:45 am]

BILLING CODE 6560-50-P